DEPARTMENT OF HEALTH AND HUMAN SERVICES

Administration for Children and Families

Submission for Office of Management and Budget Review: Services Provided to Unaccompanied Alien Children (0970-0553)

AGENCY: Office of Refugee Resettlement; Administration for Children and Families; U.S. Department of Health and Human Services.

ACTION: Request for public comments.

SUMMARY: The Office of Refugee Resettlement (ORR), Administration for Children and Families (ACF), U.S. Department of Health and Human Services, requests approval from the Office of Management and Budget (OMB) and invites public comments on the proposed information collection, including proposed changes. The request consists of several forms that allows the Unaccompanied Alien Children (UAC) Program to continue providing statutorily mandated services to unaccompanied alien children in ORR care.

DATES: Comments due May 29, 2025. OMB is required to decide about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this information collection by selecting “Currently under 30-day Review—Open for Public Comments” or by using the search function. You can also obtain copies of the proposed collection of information by emailing infocollection@acf.hhs.gov. Identify all emailed requests by the title of the information collection.

SUPPLEMENTARY INFORMATION: Description: ORR has undertaken a reorganization of its information collections to promote operational efficiency. The reorganization will result in more collections that contain fewer forms under a single OMB number. This information collection currently contains 22 unique forms (33 including alternative versions). Under the reorganization, ORR proposes to discontinue the use of 6 forms, transfer 10 forms to new information collections associated with Assessments and Home Studies/Post Release Services; and revisions to five existing forms.

The UAC Bureau is requesting to discontinue the use of 6 forms created for the case management system, the UC Path, which was never implemented. Except where indicated below, the UC Path versions of these forms contain features and/or logic not replicated in UAC Portal, and have never been used, thus maintaining these forms is unnecessary. These forms include:

• Long Term Foster Care Travel Request (Form S-14)—UC Path version only. UAC Bureau plans to revise and continue using the UAC Portal version

• Home Study/Post-Release Service (HS/PRS) Provider Entity (Form S-21A)

• Home Study/Post-Release Service (HS/PRS) Subcontractor Entity (Form S-21B)

• Home Study/Post-Release Service (HS/PRS) Primary Provider Profile (Form S-21C)

• Home Study/Post-Release Service (HS/PRS) Subcontractor Profile (Form S-21D)

• Sponsor Application (Form S-24)

Additionally, the following forms currently approved under this collection will be transferred to two new information collections proposed separately. The proposed new collections will encompass forms pertaining to Assessments and HS/PRS. These forms include:

• Assessments Information Collection

○ Sponsor Assessment (Form S-5)

○ Adult Contact Profile (Form S-7)

○ Initial Intakes Assessment (Form S-8)

○ Assessment for Risk (Form S-9)

○ UAC Assessment (Form S-11)

○ UAC Case Review (Form S-12)

○ Individual Service Plan (Form S-13)

• Home Study/Post-Release Services Information Collection

○ Home Study Assessment (Form S-6)

○ Post-Release Service (PRS) Referral (Form S-19)

○ Home Study Referral (Form S-26)

○ Post-Release Service (PRS) Report (Form S-22)

Finally, the UAC Bureau plans to keep the following forms in this information collection and make revisions as noted below. These forms are completed by foster parents or case managers or clinicians at care provider facilities to request approval for a child to travel outside the local community with their foster parent; to update the child's biographic information and admit them into the program; to authorize and document the child's contact with others outside the program; to document outreach performed on the child's behalf by care providers; and to capture high-level milestones in the child's case. These forms are documentary in nature and a critical component of the child's case file. ORR-funded care providers must always remain compliant with ORR and state licensing requirements per the Unaccompanied Children Program Foundational Rule 45 CFR 410.1302(a); proposed revisions that remove or simplify form fields attesting to or documenting program compliance do not exempt programs from satisfying these requirements. The following revisions are currently proposed for each form:

• Foster Care Travel Request (Form S-14):

○ Remove “Long-term” from the form's title to clarify this form may be used for children in all foster care settings.

○ Add “physical location of the child” filed to the UAC Basic Information section, consistent with changes made to the UAC Case Status (S-27) form; this field will auto-populate data from the “UAC Portal Discharge Tab.

○ Clarify that the name of the individual with whom the child is traveling must be an adult.

○ Remove Personal Vehicle information section from the form to align UAC travel request data collection with domestic child welfare practices;

○ Add Health Safety Travel Plan section to the form to document how the child's health condition, if applicable, may be effectively managed while traveling with their foster family, and plan for how the foster family will handle any health-related emergencies which may occur during travel.

○ Simplify the Travel Request Approval section by removing the following fields:

Reason Travel Request is being submitted to ORR/DCS for approval:

Is the travel request in accordance with state guidelines?

Purpose of travel and trip summary:

Are there any identified safety concerns in this child's background?

Is there any indication of flight risk

○ Add a summary approval field with an open text comment space for approving officials to document their rationale for approval or denial.

○ Adjust the burden estimate to account for an increase in the number of care provider facilities completing the form as the form is now used for children in all foster care settings, not just long-term foster care; a decrease in the number of children placed in ORR care; and to reflect a decrease in the overall number of fields the respondent will need to complete. The annual number of respondents increased from 30 to 138, the annual number of responses per respondent increased from 8 to 108; and the average burden hours per response decreased from 0.33 hours to 0.25 hours.

• Admission (Form S-18):

○ Add “physical location of the child” filed to the UAC Basic Information section, consistent with changes made to the UAC Case Status (Form S-27) form; this field will auto-populate data from the UAC Portal Discharge Tab.

○ Adjust the burden estimate to account for an increase in the number of care provider facilities and number of children placed in ORR care. The annual number of respondents increased from 216 to 300 and the annual number of responses per respondent decreased from 278 to 217.

• UAC Authorized/Restricted Call List and Call Log (Form S-20):

○ Add “Call Supervision Required?” field to the Authorized Contacts List; content will auto-populate on the call logs display tab and reference the corresponding field in the Family/Friend contact profile. When entering this data, respondents will select from a “Yes/No” dropdown menu to indicate if contact between the child and named individual must be supervised by care provider staff.

○ Add the following fields to the UAC Call Log to support data tracking related to UAC Bureau Policy Guide Section 3.3.10 Calls, Visitation, Mail and Email:

“Call Duration” with an open text field for the care provider staff to document the length of the call

“Supervision Required?”, which will auto-populate “Yes” or “No” based on the corresponding field in the contact profile.

“Supervised By: ” with an open text field for the care provider to identify which staff member supervised the call.

Call Method with dropdown options to specify if the contact was made by phone or video call.

○ Adjust the burden estimate to account for an increase in the number of care provider facilities, a decrease in the number of children placed in ORR care, as well as revisions to policies on phone calls in UAC Bureau Policy Guide Section 3.3.10-Calls, Visitation, Mail and Email as they impact form requirements. The annual number of respondents increased from 216 to 300, and the annual number of responses per respondent decreased from 6,981 to 217.

• Case Manager Call Log and Case Notes (Form S-23):

○ Adjust the burden estimate to account for an increase in the number of care provider facilities, and a decrease in the number of children placed in ORR care. The annual number of respondents increased from 216 to 300, and the annual number of responses per respondent decreased from 8,426 to 217.

• UAC Case Status (Form S-27):

○ Assigned a tracking number to the form (S-27).

○ Add “Physical Location of the Child” Field to the UAC Basic Information Section. This will auto-populate with data sourced from the UAC Portal Discharge Tab, presented as an appendix to the form.

○ Add “Concurrent Planning: Additional Potential Sponsors” segment to Family Reunification Section with the following fields (which will auto-populate from the Sponsor Assessment (Form S-5, currently approved under this information collection):

Potential Sponsor Name

Relationship to Child

Sponsor Category

○ Split the “Know Your Rights Presentation and Legal Screening” into two distinct fields to capture the completion date for each more accurately, acknowledging that they typically are not completed on the same day.

○ Add “Back-Up Case Manager” segment to Case Manager Information Section to designate an alternative Case Manager who may take actions on behalf of the primary Case Manager when they are unavailable. The corresponding fields mirror those for primary case manager and will either be system-generated or auto-populate with user account data already entered the system. The fields include:

Back-up Case Manager Name

Back-up Case Manager Email Address

Back-up Case Manager Phone Number

Back-up Case Manager Organization

Assigned on (MM/DD/YYYY)

○ Adjust the burden estimate to account for an increase in the number of care provider facilities, a decrease in the number of children placed in ORR care, as well as the addition of the above listed new segments and fields. The annual number of respondents increased from 216 to 300; the annual number of responses per respondent decreased from 278 to 217; and the average burden hours per response increased from 0.08 hours to 0.25 hours.

Respondents: ORR grantee and contractor staff.

Annual Burden Estimates:

Form | Annual number of respondents | Number of responses per respondent | Average burden hours per response | Annual total burden hours
Foster Care Travel Req. Form (S-14) | 138 | 108 | 0.25 | 3,726
Admission (S-18) | 300 | 217 | 0.33 | 21,483
UAC Authorized/Restricted Call List and Call Log (S-20) | 300 | 217 | 0.08 | 5,208
Case Manager Call Log and Case Notes (S-23) | 300 | 217 | 0.08 | 5,208
UAC Case Status (S-27) | 300 | 217 | 0.25 | 16,275
Estimated Annual Burden Hours Total: |  |  |  | 51,900

Authority: 6 U.S.C. 279; 8 U.S.C. 1232.

Mary C. Jones,
ACF/OPRE Certifying Officer.

[FR Doc. 2025-07372 Filed 4-28-25; 8:45 am]

BILLING CODE 4184-45-P